SMALL BUSINESS ADMINISTRATION

[Disaster Declaration #14381 and #14382]

Colorado Disaster Number CO-00016

AGENCY: U.S. Small Business Administration.

ACTION: Amendment 1.

SUMMARY: This is an amendment of the Presidential declaration of a major disaster for Public Assistance Only for the State of Colorado (FEMA—4229—DR), dated 07/16/2015.

Incident: Severe storms, tornadoes, flooding, landslides, and mudslides.

Incident Period: 05/04/2015 through 06/16/2015.

DATES: Effective Date: 08/12/2015.

Physical Loan Application Deadline Date: 09/14/2015.

Economic Injury (EIDL) Loan Application Deadline Date: 04/18/2016.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of Colorado, dated 07/16/2015, is hereby amended to include the following areas as adversely affected by the disaster.

Primary Counties: Adams, Boulder, Denver, Park.

All other information in the original declaration remains unchanged.

(Catalog of Federal Domestic Assistance Numbers 59002 and 59008)

James E. Rivera,
Associate Administrator for Disaster Assistance.

[FR Doc. 2015-20640 Filed 8-20-15; 8:45 am]

BILLING CODE 8025-01-P